DEPARTMENT OF COMMERCE

National Oceanic and Atmospheric Administration

RIN 0648-XA849

Snapper-Grouper Fishery off the Southern Atlantic States; Amendments 18A, 18B, 18C, 20A, and 20B

AGENCY: National Marine Fisheries Service (NMFS), National Oceanic and Atmospheric Administration (NOAA), Commerce.

ACTION: Supplemental Notice of intent (NOI) to prepare draft environmental impact statements (DEISs); request for comments.

SUMMARY: The South Atlantic Fishery Management Council (Council) previously published a NOI for Amendment 18 to the Fishery Management Plan (FMP) for the Snapper-Grouper Fishery of the South Atlantic Region (Amendment 18), on January 28, 2009, which has subsequently been divided into five separate amendments to the FMP for the Snapper-Grouper Fishery of the South Atlantic Region (Snapper-Grouper FMP). The new amendments to the Snapper-Grouper FMP are: Amendment 18A, which is supported by an Environmental Impact Statement (EIS); Amendment 18B, which is supported by an Environmental Assessment (EA); Amendment 18C, for which the specific National Environmental Policy Act (NEPA) document type (EIS or EA) has not yet been determined; Amendment 20A, which is supported by an EA; and Amendment 20B, for which the specific NEPA document has also not yet been determined. If Amendments 18C and 20B to the Snapper-Grouper FMP subsequently require the development of DEISs, NOIs for those amendments will be published in the Federal Register at a later date.

This supplemental NOI is intended to inform the public of the Council's decision to divide the actions in Amendment 18 into five separate amendments and subsequently prepare separate supporting NEPA documents for the new amendments. Comments are being solicited on each of the Amendments, regardless of the specific NEPA document being prepared.

DATES: Written comments on the scope of the issues to be addressed in these amendments will be accepted until December 30, 2011, at 5 p.m.

ADDRESSES: You may submit comments on the supplemental NOI identified by NOAA-NMFS-2011-0242 by any of the following methods:

• Electronic submissions: Submit electronic comments via the Federal e-Rulemaking Portal: http://www.regulations.gov. Follow the instructions for submitting comments.

• Mail: Kate Michie, Southeast Regional Office, NMFS, 263 13th Avenue South, St. Petersburg, FL 33701.

Instructions: All comments received are a part of the public record and will generally be posted to http://www.regulations.gov without change. All Personal Identifying Information (for example, name, address, etc.) voluntarily submitted by the commenter may be publicly accessible. Do not submit Confidential Business Information or otherwise sensitive or protected information.

To submit comments through the Federal e-Rulemaking Portal: http://www.regulations.gov, click on “submit a comment”, then enter “NOAA-NMFS-2011-0242” in the keyword search and click on “search”. To view posted comments during the comment period, enter “NOAA-NMFS-2011-0242” in the keyword search and click on “search”. NMFS will accept anonymous comments (enter N/A in the required field if you wish to remain anonymous). You may submit attachments to electronic comments in Microsoft Word, Excel, WordPerfect, or Adobe PDF file formats only. Comments received through means not specified in this rule will not be considered. Electronic copies of the draft documents may be obtained from the Southeast Regional Office Web site at http://sero.nmfs.noaa.gov/sf/SASnapperGrouperHomepage.htm.

FOR FURTHER INFORMATION CONTACT: Kate Michie, telephone: (727) 824-5305, email: Kate.Michie@noaa.gov or the South Atlantic Fishery Management Council, 4055 Faber Place Drive, Suite 201, North Charleston, SC 29405; telephone: (843) 571-4366; fax: (843) 769-4520; email: safmc@safmc.net.

SUPPLEMENTARY INFORMATION:

Background

The snapper-grouper fishery of the South Atlantic region in the exclusive economic zone is managed under the Snapper-Grouper FMP. The Snapper-Grouper FMP was prepared by the Council and implemented by NMFS under the authority of the Magnuson-Stevens Fishery Conservation and Management Act (Magnuson-Stevens Act) by regulations at 50 CFR part 622. Of the 98 species managed by the Council, 73 of these are included in the snapper-grouper management complex.

A NOI for Amendment 18 was published on January 22, 2008 (73 FR 3701), and contained a notice of consideration of developing a limited-access privilege (LAP) program for the commercial snapper-grouper fishery in the South Atlantic. However, the Council has postponed consideration of a LAP program for the entire snapper-grouper fishery. A second NOI for Amendment 18 was published on April 7, 2008 (73 FR 18782) to announce the development of an amendment to establish a rebuilding plan for the red snapper stock and various management measures to end its overfishing. The Council subsequently moved these management actions to Amendment 17A to the FMP (December 9, 2010, 75 FR 76874).

A third NOI for Amendment 18 was published on January 28, 2009 (74 FR 4944) to inform the public of the preparation of a DEIS in support of the new Amendment 18 to the FMP, which at that time, contained actions to extend the management range of snapper-grouper north of the Council's current jurisdiction; designate essential fish habitat for snapper-grouper species in the extended management range (New England and Mid-Atlantic); change the golden tilefish fishing year; separate the snowy grouper quota into regions; improve data reporting; limit participation and effort in the golden tilefish and black sea bass fisheries; establish state or regional Annual Catch Limits (ACLs) and Annual Catch Targets for the recreational harvest of gag; and modify the Individual Transfer Quota (ITQ) program for wreckfish.

This supplemental NOI is intended to inform the public of the Council's decision to divide the actions in Amendment 18 into five separate amendments, not all of which require the development of DEISs, to reduce the number of actions contained in each amendment.

Amendment 18A

The Council will prepare an EIS for Amendment 18A. The Council is concerned that increased harvest restrictions imposed through the implementation of Amendment 13C (September 21, 2006, 71 FR 55096) and Amendment 16 (July 29, 2009, 74 FR 30964) will increase the incentive to harvest black sea bass, for which the fishing seasons have progressively been shortened due to meeting the commercial and recreational ACLs early in the fishing season and subsequently implementing their respective accountability measures (AMs) to close those segments of the fishery. Currently, there is no limit to the number of pot tags issued to fishermen to harvest black sea bass or the number of pots that may be fished. The Council and NMFS are looking into how increasing or decreasing black sea bass fishing effort may affect migrating endangered right whales during the calving season of November 15 through April 15. Additionally, to avoid increases in effort that could lead to the continuation of early commercial quota closures, the Council is considering the implementation of a black sea bass pot endorsement program, a limitation on the number of pots on board a vessel to reduce fishing effort in the black sea bass pot component of the snapper-grouper fishery, and the implementation of bycatch mitigation measures for the pot component of the fishery.

To further control effort in the black sea bass fishery and reduce the likelihood of protected species interactions, the Council is considering modifying or adding new management measures such as seasonal closures, trip limits, and size limits. Amendment 18A also includes actions to modify the recreational AMs for black sea bass, improve data reporting in the commercial sector and for-hire component of the snapper-grouper fishery, and actions to update management reference points for black sea bass. Additionally, Amendment 18A would update the current rebuilding strategy for black sea bass to take into account results from the most recent stock assessment (South East Data, Assessment, and Review, SEDAR 25). As part of the rebuilding strategy, Amendment 18A would modify current management reference points including sector ACLs, allowable biological catch, and optimum yield.

Amendment 18B

Amendment 18B is being developed to address management actions for golden tilefish. Amendment 18B will consider possible effort shifting into the longline and hook-and-line components of the commercial sector for golden tilefish due to harvest restrictions on other snapper-grouper species. Amendment 18B would also address potential modifications to the golden tilefish fishing year to ensure that the regulations for golden tilefish do not impact select fishermen disproportionately. Additionally, Amendment 18B would address the establishment of an endorsement program for the longline and hook-and-line components of the golden tilefish commercial sector of the snapper-grouper fishery to control commercial fishing effort on golden tilefish. The actions in Amendment 18B are not likely to result in significant impacts on the human environment. Therefore an EA is being prepared to support the actions contained therein.

Amendment 18C

Amendment 18C would contain actions to potentially extend the range of selected snapper-grouper species in the FMP northward into the mid-Atlantic in order to better conserve and manage these species. The current regional jurisdictional boundaries between the South Atlantic and Mid-Atlantic fishery management councils would not be addressed in Amendment 18C for golden tilefish, black sea bass, and scup. Additionally, Amendment 18C would address the establishment of essential fish habitat for snapper-grouper species in the extended management area. At this time, the determination on whether either an EIS or EA will be prepared has not been made.

Amendment 20A

In Amendment 20A the Council is considering reverting inactive wreckfish ITQ shares and redistributing those shares to active fishery participants. Amendment 20A would also consider actions to establish an ITQ share cap in accordance with the Magnuson-Stevens Act requirement to limit excessive share holdings by any one entity. The amendment would also include an appeals process by which participants may contest the wreckfish share redistribution.

Amendment 20A was initially part of Amendment 20 to the FMP for the Snapper-Grouper Fishery of the South Atlantic Region (Amendment 20), which was determined to require development a DEIS. Subsequent to that determination, the actions to revert and redistribute inactive wreckfish shares were separated out of Amendment 20 in order to prevent unnecessary economic impacts on the fishery caused by the combination of a pending reduction in ACL and a large percentage of inactive shares. The actions in Amendment 20A will not have significant impacts on the human environment. Therefore, an EA is being developed for Amendment 20A rather than a DEIS.

Amendment 20B

Amendment 20B would address Magnuson-Stevens Act requirements associated with the wreckfish ITQ system. Amendment 20B would update and possibly modify various aspects of the current wreckfish ITQ system as needed in order to better manage the wreckfish commercial sector according the Magnuson-Stevens Act requirements for LAP programs such as cost recovery and overall efficiency. At this time, the determination on whether either an EIS or EA will be prepared has not been made.

Public Hearings, Times, and Locations

Public hearings for Amendments 18A, 18B, and 20A were held in November 2011. Additional public hearings for these amendments may be held in the future. Exact dates, times, and locations will be announced by the Council. The public will be informed, via a notification in the Federal Register, of future scoping meetings and public hearings for Amendments 18C and 20B when they are scheduled to occur. The meetings will be physically accessible to people with disabilities. Requests for information packets or for sign language interpretation or other auxiliary equipment should be directed to the Council (see FOR FURTHER INFORMATION CONTACT).

Authority: 16 U.S.C. 1801 et seq.

Dated: November 23, 2011.
Alan D. Risenhoover,
Director, Office of Sustainable Fisheries, National Marine Fisheries Service.

[FR Doc. 2011-30853 Filed 11-29-11; 8:45 am]

BILLING CODE 3510-22-P